Title 3—

The President

Memorandum of October 28, 2011

Making It Easier for America's Small Businesses and America's Exporters to Access Government Services to Help Them Grow and Hire

Memorandum for the Heads of Executive Departments and Agencies

As I outlined in my State of the Union address to the Congress on January 25, 2011, winning the future in the global economy will require a Government that wisely allocates its scarce resources to maximize efficiency and effectiveness so that it can best support American competitiveness, innovation, and job growth. If we are to thrive in the global economy, and make America the best place on Earth to do business, we need to equip our Government with the tools necessary to support innovation and job growth in the 21st century.

Accordingly, we must make it easier for businesses to access the full range of Government programs and services without having to waste effort navigating their way through the Federal bureaucracy. At the same time, we must further streamline and coordinate Federal programs to reduce costs and provide customer-oriented service.

Businesses looking for assistance from the Federal Government should feel like they are interacting with one entity, rather than a number of separate, albeit linked, components. This means adopting a “No Wrong Door” policy that uses technology to quickly connect businesses to the services and information relevant to them, regardless of which agency's website, call center, or office they go to for help.

In addition, a business's interactions with the Federal Government should be individualized and efficient. If the private sector can allow consumers to customize interactions so that they receive only the information they want, in the form they want it, so can the Federal Government.

Today, I am directing a first wave of changes focused on both small businesses and businesses of all sizes that want to begin or increase exporting (exporters), because those businesses help drive economic growth and have the most to gain from Federal assistance. We plan to use the resulting improvements as a model for future reforms so that, in time, all businesses and all citizens receive the highest level of customer service when they interact with the Federal Government.

Accordingly, I direct the following:

(1) All executive departments and agencies (agencies) shall work with a Steering Committee co-chaired by the Federal Chief Information Officer, Assistant to the President and Chief Technology Officer, and Chief Performance Officer (the Co-Chairs) to carry out the directives in this memorandum within 90 days of the date of this memorandum, unless a provision of this memorandum expressly states otherwise. The Steering Committee shall include senior policy and technical representatives, appointed by the heads of their respective agencies, from the Departments of State, Defense, Agriculture, Commerce, and Veterans Affairs, the Small Business Administration (SBA), the General Services Administration (GSA), the Export-Import Bank, and other agencies designated by the Co-Chairs. The Co-Chairs and representatives from the Department of Commerce and SBA shall serve as the Executive Committee of the Steering Committee, which shall coordinate the strategy, design, development, launch, and operation of BusinessUSA, a common, open, online platform and web service with dedicated resources that will, as a first step, disseminate core information regarding the Federal Government's programs and services relevant to small businesses and exporters.

(2) Agencies shall work with the Steering Committee to develop and launch an introductory version of BusinessUSA. BusinessUSA shall be designed, tested, and built with the active feedback of U.S. businesses and relevant online communities. To the extent appropriate, practicable, and permitted by law, the BusinessUSA platform shall integrate related State and local government services as well as those of private sector partners.

(3) Agencies shall make information regarding their small business and export programs and services accessible through BusinessUSA. To accomplish this in a uniform fashion, the Steering Committee shall develop a common set of standards for content available through BusinessUSA, which shall identify the types of programs and services to be included initially on BusinessUSA and a structure for organizing and presenting such information. These standards shall be used by all agencies in the creation, presentation, and delivery of information regarding their programs and services, to the extent practicable and permitted by law.

(4) Agencies shall also work with the Steering Committee to develop new content for BusinessUSA that synthesizes information available across agencies to better serve small businesses and exporters. Among other things, agencies shall work together to aggregate on the BusinessUSA platform statistical, demographic, and other raw Government datasets of particular interest to small businesses and exporters, making Government data more easily accessible and spurring innovative uses of the data through business-oriented web or mobile applications.

(5) Agencies shall integrate BusinessUSA, including ready access to the BusinessUSA website, into their current websites, call centers, and field offices to ensure that small businesses and exporters have access to the wide range of Government programs and services at each entry point into the Federal Government. During the year following the date of this memorandum, agencies shall work with GSA and the Office of Management and Budget to enhance the centralized call center for responding to public questions about Federal programs and services (1-800-FED-INFO) to add expertise with Government programs and services for small businesses and exporters.

(6) (a) Nothing in this memorandum shall be construed to impair or otherwise affect:

(i) authority granted by law or Executive Order to an agency, or the head thereof; or

(ii) functions of the Director of the Office of Management and Budget relating to budgetary, administrative, or legislative proposals.

(b) BusinessUSA shall be operated by a single hosting agency under the Executive Committee's coordination. To the extent permitted by law, agencies shall reimburse the hosting agency for the cost of establishing, maintaining, and operating BusinessUSA.

(c) This memorandum shall be implemented consistent with applicable law and subject to the availability of appropriations.

(d) This memorandum is not intended to, and does not, create any right or benefit, substantive or procedural, enforceable at law or in equity by any party against the United States, its departments, agencies, or entities, its officers, employees, or agents, or any other person.

(7) The Director of the Office of Management and Budget is authorized and directed to publish this memorandum in the Federal Register.

THE WHITE HOUSE,

Washington, October 28, 2011.

[FR Doc. 2011-28593

Filed 11-1-11; 11:15 am]

Billing code 3110-01-P